DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Coverage Measurement, Person Interview and Person Interview Reinterview.

Form Number(s): All data will be collected using automated instruments on computers.

OMB Control Number: None.

Type of Request: New collection.

Burden Hours: 99,619.

Number of Respondents: 362,250.

Average Hours per Response: 15 minutes.

Needs and Uses: The U.S. Census Bureau requests authorization from the Office of Management and Budget to conduct the Census Coverage Measurement (CCM) Person Interview (PI) and Person Interview Reinterview (PIRI) operations as part of the 2010 Census. The CCM program will provide estimates of net coverage error and components of coverage error (omissions and erroneous enumerations) for housing units and persons in housing units. The data collection and matching methodologies for previous coverage measurement programs were designed only to measure net coverage error, which reflects the difference between omissions and erroneous inclusions.

The 2010 CCM will be comprised of two samples selected to measure census coverage of housing units and the household population: The population sample (P sample) and the enumeration sample (E sample). The primary sampling unit is a block cluster, which consists of one or more contiguous census blocks. The P sample is a sample of housing units and persons obtained independently from the census for a sample of block clusters. The E sample is a sample of census housing units and enumerations in the same block cluster as the P sample. The results of the housing unit matching operations will be used to determine which CCM and Census addresses will be eligible to go to the CCM Person Interview (PI) Operation. The PI Operations will contain approximately 362,250 sample addresses. The Person Interview Reinterview Operation will be a sample of those cases with an estimate 36,225 sample addresses.

The automated PI instrument will be used to collect the following information for persons in housing units only:

1. Roster of people living at the housing unit at the time of the CCM PI Interview.

2. Census Day (April 1, 2010) address information from people who moved into the sample address since Census Day.

3. Other addresses where a person may have been counted on Census Day.

4. Other information to help us determine where a person should have been counted as of Census Day (relative to Census residence rules). For example, enumerators will probe for persons who might have been left off the household roster; ask additional questions about persons who moved from another address on Census Day to the sample address; collect additional information for persons with multiple addresses; and collect information on the addresses of other potential residences for household members.

5. Demographic information for each person in the household on Interview Day or Census Day, including name, date of birth, sex, race, Hispanic origin, and relationship.

6. Name and above information for any person who has moved out of the sample address since Census Day (if known).

We also will conduct a quality control operation—PI Reinterview (PIRI) on 10 percent of the PI cases. The purpose of the operation is to confirm that the PI enumerator conducted a PI interview with an actual household member or a valid proxy respondent and conduct a full person interview when falsification is suspected. If PIRI results indicate falsified information by the original enumerator, all cases worked by the original enumerator are reworked by reassigning the cases to a different PI enumerator.

Affected Public: Individuals or households.

Frequency: One time.

Respondent's Obligation: Mandatory.

Legal Authority: Title 13, United States Code, Sections 141 and 193.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: November 18, 2009.
Glenna Mickelson,
Management Analyst, Office of the Chief Information Officer.

[FR Doc. E9-28097 Filed 11-23-09; 8:45 am]

BILLING CODE 3510-07-P